ENVIRONMENTAL PROTECTION AGENCY

[EPA-HQ-OAR-2007-0595; FRL-9917-04-OEI]

Information Collection Request Submitted to OMB for Review and Approval; Comment Request; Regulation of Fuels and Fuel Additives: Detergent Gasoline (Renewal)

AGENCY: Environmental Protection Agency (EPA).

ACTION: Notice.

SUMMARY: The Environmental Protection Agency has submitted an information collection request (ICR), “Regulation of Fuels and Fuel Additives: Detergent Gasoline (Renewal)” (EPA ICR No. 1655.09, OMB Control No. 2060-0275) to the Office of Management and Budget (OMB) for review and approval in accordance with the Paperwork Reduction Act (44 U.S.C. 3501 et seq.). This is a proposed extension of the ICR, which is currently approved through September 30, 2014. Public comments were previously requested via the Federal Register (79 FR 24417) on April 30, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 27, 2014.

ADDRESSES: Submit your comments, referencing Docket ID Number EPA-HQ-OAR-2007-0595, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jaimee Dong, Office of Transportation and Air Quality, (Mail Code: 6406J), Environmental Protection Agency, 1200 Pennsylvania Ave. NW., Washington, DC 20460; telephone number: (202) 343-9672; fax number: (202) 343-2802; email address: dong.jaimee@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Gasoline combustion results in the formation of engine deposits that contribute to increased emissions. Detergent additives deter deposit formation. The Clean Air Act requires gasoline to contain a detergent additive. The regulations at 40 CFR part 80, subpart G specify certification requirements for manufacturers of detergent additives, recordkeeping and reporting requirements for blenders of detergents into gasoline or post-refinery component (any gasoline blending stock or any oxygenate which is blended with gasoline subsequent to the gasoline refining process), and recordkeeping and reporting requirements for manufacturers, transferors, or transferees of detergents, gasoline, or post-refinery component (PRC). These requirements ensure that (1) a detergent is effective before it is certified by EPA, (2) a certified detergent, at the minimum concentration necessary to be effective (known as the lowest additive concentration (LAC)), is blended into gasoline, and (3) only gasoline which contains a certified detergent at its LAC is delivered to the consumer. The EPA maintains a list of certified gasoline detergents, which is publicly available.

Form Numbers: None.

Respondents/affected entities: Manufacturers, transferors and transferees, and blenders into gasoline or post-refinery component of detergent additives; and detergent additive researchers.

Respondent's obligation to respond: Mandatory.

Estimated number of respondents: 1354 (total).

Frequency of response: Once, occasionally annually.

Total estimated burden: 220,181 hours (per year). Burden is defined at 5 CFR 1320.03(b).

Total estimated cost: $18,854,168 including $335,040 annualized capital or O&M costs.

Changes in the estimates: There is no change in the total estimated burden currently identified in the OMB Inventory of Approved ICR Burdens.

Courtney Kerwin,
Acting Director, Collection Strategies Division.

[FR Doc. 2014-22749 Filed 9-24-14; 8:45 am]

BILLING CODE 6560-50-P